POSTAL SERVICE

Product Change—Priority Mail Express, Priority Mail, and USPS Ground Advantage Negotiated Service Agreements; Priority Mail and USPS Ground Advantage Negotiated Service Agreements; Priority Mail

AGENCY: Postal Service.

ACTION: Notice.

SUMMARY: The Postal Service gives notice of filing a request with the Postal Regulatory Commission to add a domestic shipping services contract to the list of Negotiated Service Agreements in the Mail Classification Schedule's Competitive Products List.

DATES: Date of required notice: October 1, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
09/22/25 | PM-GA 861 | MC2025-1702 | K2025-1692
09/22/25 | PM-GA 862 | MC2025-1703 | K2025-1693
09/22/25 | PM-GA 863 | MC2025-1704 | K2025-1694
09/22/25 | PM-929 | MC2025-1705 | K2025-1695
09/25/25 | PME-PM-GA 1417 | MC2025-1706 | K2025-1696
09/25/25 | PME-PM-GA 1418 | MC2025-1707 | K2025-1697
09/25/25 | PM-930 | MC2025-1708 | K2025-1698
09/25/25 | PME-PM-GA 1419 | MC2025-1709 | K2025-1699
09/25/25 | PME-PM-GA 1420 | MC2025-1710 | K2025-1700
09/25/25 | PM-931 | MC2025-1711 | K2025-1701
09/25/25 | PM-GA 864 | MC2025-1712 | K2025-1702
09/25/25 | PM-GA 865 | MC2025-1713 | K2025-1703
09/25/25 | PME-PM-GA 1421 | MC2025-1714 | K2025-1704
09/25/25 | PME-PM-GA 1422 | MC2025-1715 | K2025-1706
09/25/25 | PM-GA 866 | MC2025-1716 | K2025-1707
09/25/25 | PM-GA 867 | MC2025-1717 | K2025-1708
09/25/25 | PM-GA 868 | MC2025-1718 | K2025-1709
09/26/25 | PME-PM-GA 1423 | MC2025-1719 | K2025-1710
09/26/25 | PM-932 | MC2025-1720 | K2025-1711
09/26/25 | PM-GA 869 | MC2025-1721 | K2025-1712

Documents are available at www.prc.gov.

Sean C. Robinson,
Attorney, Corporate and Postal Business Law.

[FR Doc. 2025-19090 Filed 9-30-25; 8:45 am]

BILLING CODE 7710-12-P